NUCLEAR REGULATORY COMMISSION

[Docket No. 030-05004]

Notice of License Termination and Release of the Northern States Power Company Pathfinder Site in Sioux Falls, SD, for Unrestricted Use

AGENCY: U.S. Nuclear Regulatory Commission.

ACTION: Notice of license termination and site release for unrestricted use.

FOR FURTHER INFORMATION CONTACT: Chad J. Glenn, Materials Decommissioning Section, Division of Waste Management and Environmental Protection, NRC, Washington, DC 20555; telephone: (301) 415-6722; fax: (301) 415-5369; or e-mail at: cjg1@nrc.gov.

SUPPLEMENTARY INFORMATION:

I. Introduction

Pursuant to 10 CFR Part 20 Subpart E, the U.S. Nuclear Regulatory Commission (NRC) is providing notice that it has terminated Northern States Power Company, dba Xcel Energy, Materials License No. 22-08799-02 and released its Pathfinder site in Sioux Falls, South Dakota for unrestricted use. The licensee's request for an amendment to authorize decommissioning of its Pathfinder site was noticed in the Federal Register on August 4, 2004 (69 FR 47185). A notice of availability of an environmental assessment and finding of no significant impact related to this action was published in the Federal Register on May 25, 2005 (70 FR 30150) and the license was amended to authorize decommissioning activities in accordance with a NRC-approved decommissioning plan.

In a letter dated February 26, 2007, Xcel Energy provided final radiological status surveys to demonstrate that the site met the license termination criteria in 10 CFR Part 20 Subpart E. NRC staff conducted inspections and confirmatory surveys including the collection of samples and independent measurements of on-site soils and building surfaces.

The NRC staff evaluated Xcel Energy's request and reviewed the results of the final radiological surveys. Based on those reviews, the staff determined that the site met the unrestricted release criteria in 10 CFR Part 20 Subpart E. The staff prepared a Safety Evaluation Report (SER) to support its termination of the Northern States Power Company license for the Pathfinder site.

II. Further Information

In accordance with 10 CFR Part 2.790 of the NRC's “Rules of Practice,” details with respect to this action, including the SER, are available electronically at the NRC's Electronic Reading Room at http://www.nrc.gov/reading-rm/adams.html. From this site, you can access the NRC's Agencywide Document Access and Management System (ADAMS), which provides text and image files of NRC's public documents. The ADAMS accession number for the termination letter with enclosed SER, titled “Completion of Decommissioning Activities Northern States Power Company DBA Xcel Energy Pathfinder Site, Sioux Falls, South Dakota (Docket No. 030-05004)” is ML071900323. If you do not have access to ADAMS or if there are problems in accessing a document located in ADAMS, contact the NRC Public Document Room (PDR) Reference staff at 1-800-397-4209, 301-415-4737, or by e-mail to pdr@nrc.gov.

This document may also be viewed electronically on the public computers located at the NRC's PDR, O-1-F21, One White Flint North, 11555 Rockville Pike, Rockville, MD 20852. The PDR reproduction contractor will copy documents for a fee.

Dated at NRC, Rockville, MD, this 8th day of August 2007.
For the Nuclear Regulatory Commission.
Keith I. McConnell,
Deputy Director, Decommissioning and Uranium Recovery, Licensing Directorate, Division of Waste Management and Environmental Protection, Office of Federal and State Materials and Environmental Management Programs.

[FR Doc. E7-16067 Filed 8-14-07; 8:45 am]

BILLING CODE 7590-01-P